DEPARTMENT OF LABOR

Office of the Secretary

Bureau of International Labor Affairs National Advisory Committee for Labor Provisions of U.S. Free Trade Agreements

AGENCY: Bureau of International Labor Affairs, Department of Labor.

ACTION: Notice of Charter Renewal.

SUMMARY: Pursuant to the Federal Advisory Committee Act (FACA), as amended (5 U.S.C. App. 2), the North American Agreement on Labor Cooperation (NAALC), and the Labor Chapters of U.S. Free Trade Agreements (FTAs), the Secretary of Labor has determined that the renewal of the charter of the National Advisory Committee for Labor Provisions of U.S. Free Trade Agreements (NAC) is necessary and in the public interest and will provide information that cannot be obtained from other sources. The committee shall provide its views to the Secretary of Labor through the Bureau of International Labor Affairs of the U.S. Department of Labor, which is the point of contact for the NAALC and the Labor Chapters of U.S. FTAs. The committee shall comprise twelve members, four representing the labor community, four representing the business community, and four representing the public.

Purpose: In accordance with the provisions of the FACA, Article 17 of the NAALC, Article 17.4 of the United States-Singapore Free Trade Agreement, Article 18.4 of the United States-Chile Free Trade Agreement, Article 18.4 of the United States-Australia Free Trade Agreement, Article 16.4 of the United States-Morocco Free Trade Agreement, Article 16.4 of the Central America-Dominican Republic-United States Free Trade Agreement (CAFTA-DR), Article 15.4 of the United States-Bahrain Free Trade Agreement, Article 16.4 of the United States-Oman Free Trade Agreement, Article 17.5 of the United States-Peru Trade Promotion Agreement, Article 17.5 of the United States-Colombia Trade Promotion Agreement, Article 19.5 of the United States-Korea Free Trade Agreement, and Article 16.5 of the United States-Panama Trade Promotion Agreement, the Secretary of Labor has determined that the renewal of the charter of the NAC is necessary and in the public interest and will provide information that cannot be obtained from other sources.

The Bureau of International Labor Affairs of the U.S. Department of Labor serves as the U.S. point of contact under the FTAs listed above. The committee shall provide its advice to the Secretary of Labor through the Bureau of International Labor Affairs concerning the implementation of the NAALC and the Labor Chapters of U.S. FTAs. The committee may be asked to provide advice on the implementation of labor provisions of other FTAs to which the United States may be a party or become a party. The committee should provide advice on issues within the scope of the NAALC and the Labor Chapters of the FTAs, including cooperative activities and the labor cooperation mechanism of each FTA as established in the Labor Chapters and the corresponding annexes. The committee may be asked to provide advice on these and other matters as they arise in the course of administering the labor provisions of other FTAs.

The committee shall comprise 12 members, four representing the labor community, four representing the business community, and four representing the public. Unless already employees of the United States Government, no members of the committee shall be deemed to be employees of the United States Government for any purpose by virtue of their participation on the committee. Members of the committee will not be compensated for their services or reimbursed for travel expenses.

Authority: The authority for this notice is granted by the FACA (5 U.S.C. App. 2) and the Secretary of Labor's Order No. 18-2006 (71 FR 77560 (12/26/2006)).

FOR FURTHER INFORMATION CONTACT: Donna Chung, Division Chief for Monitoring and Enforcement of Trade Agreements, Office of Trade and Labor Affairs, Bureau of International Labor Affairs, U.S. Department of Labor, telephone (202) 693-4861.

Signed at Washington, DC, this 2nd day of March 2015.
Carol Pier,
Deputy Undersecretary, Bureau of International Labor Affairs.

[FR Doc. 2015-05411 Filed 3-6-15; 8:45 am]

BILLING CODE 4510-28-P